DEPARTMENT OF LABOR

Employment and Training Administration

Notice of Availability of Funds and Solicitation for Grant Applications (SGA) for Business-Led H-1B Technical Skills Training Grants

AGENCY: Employment and Training Administration.

SUMMARY: The Employment and Training Administration (ETA), U.S. Department of Labor (DOL), announces the availability of approximately $50 million in grant funds for technical skills training programs.

Technical skills training grants were authorized under the American Competitiveness and Workforce Improvement Act of 1998 (ACWIA), as amended. Fees paid by employers who bring foreign workers into the United States to work in high skill or specialty occupations on a temporary basis under H-1B nonimmigrant visas finance these grants. Twenty-five percent of the grants are to be awarded to business partnerships and seventy-five percent are to be awarded to local workforce investment boards established under the Workforce Investment Act (WIA).

This notice applies to the 25 percent of the total funds available for technical skills training grants that are required by ACWIA to be awarded to business partnerships that consist of at least two businesses or a business-related nonprofit organization that represents more than one business. The partnership may also include any educational, labor, faith-based or community organization, or workforce investment board.

H-1B Technical Skills Training Grants are focused on addressing the high skill technology shortages of American businesses and are a long-term solution to domestic skill shortages in high skill and high technology occupations. H-1B Technical Skills Training Grants are aimed at raising the technical skills levels of American workers so they can take advantage of the new technology-related employment opportunities. Raising the skill level of American workers will, in turn, help businesses reduce their dependence on skilled foreign professionals permitted to work in the United States using H-1B visas. H-1B Technical Skills Training Grants are not intended to address labor shortages due to reasons other than technical skills shortages.

At least eighty percent of the grants are to be awarded to projects that train workers in high technology, information technology, and biotechnology skills, including skills needed for software and communications services, telecommunications, systems installation and integration, computers and communications hardware, advanced manufacturing, health care technology, biotechnology and biomedical research and manufacturing, and innovation services.

Grant funds awarded under the 25 percent provision may be used only to carry out a strategy that would otherwise not be eligible for funds provided through workforce investment boards under the 75 percent provision. Applicants must explain the barriers that prevent them from meeting the 75 percent eligibility criteria. An announcement of the solicitation for grant applications (SGA/DFA 03-100) for the 75 percent of grants to be awarded to local boards was published in the Federal Register on January 6, 2003.

In awarding H-1B Technical Skills Training Grants, every effort will be made to fairly distribute grants across rural and urban areas and across the different geographic regions of the United States. It is anticipated that individual awards will not exceed $3 million.

This solicitation provides background information and describes the application submission requirements, the process that eligible entities must use to apply for funds covered by this solicitation, and how grantees will be selected.

DATES: The closing date for receipt of applications under this announcement is September 22, 2003. Applications must be received at the address below no later than 4 pm EST (Eastern Standard Time). Grant applications received after this date will not be considered.

ADDRESSES: Mailed applications must be addressed to the U.S. Department of Labor, Employment and Training Administration, Division of Federal Assistance, Attention: Mamie D. Williams, SGA/DFA 03-114, 200 Constitution Avenue, NW., Room S-4203, Washington, DC 20210. Telefacsimile (FAX) applications will not be accepted. Applicants are advised that mail delivery in the Washington area may be delayed due to mail decontamination procedures. Hand delivered proposals will be received at the above address.

FOR FURTHER INFORMATION CONTACT: Mamie D. Williams, Grants Management Specialist, Division of Federal Assistance, Telephone (202) 693-3301. (This is not a toll free number.) You must specifically ask for Mamie D. Williams. This announcement is also being made available on the ETA Web site at http://www.doleta.gov/h-1b.

SUPPLEMENTARY INFORMATION: The announcement consists of four parts:

• Part I provides background information on the H-1B grant program, the principles of H-1B Technical Skills Training Grants, and DOL's policies and emphases.

• Part II describes specific program, administrative and reporting requirements that will apply to all grant awards.

• Part III describes the application process.

• Part IV describes the review process and rating criteria that will be used to evaluate applications for funding.

Part I—Background, DOL Policies and Emphases

A. Background

This section provides a summary overview of the intent and nature of the solicitation for grant award. Elements mentioned in this background summary may be covered in greater detail later in the document.

Authorizing Legislation: In response to demands from industries that were experiencing skill shortages in areas such as information technology, Congress amended the Immigration and Nationality Act and created the H-1B visa category. The H-1B visa enables employers to hire non-immigrants in high skill or specialty occupations for work in the United States. An annual limit of 65,000 was established on the number of H-1B visas granted. In a subsequent effort to help employers access skilled foreign workers and compete internationally, Congress enacted the American Competitiveness and Workforce Improvement Act of 1998 (ACWIA 1998) Public Law 105-277 in October 1998. The provisions of ACWIA 1998 created technical skills training grants under the Department of Labor's Employment and Training Administration.

ACWIA 1998 increased the annual limit on H-1B visas temporarily to 115,000 in fiscal years 1999 and 2000, and to 107,500 in 2001. In addition, a $500 user fee was imposed on employers for each H-1B application. ACWIA 1998 authorized the use of 56.3% of the fee to finance the H-1B Technical Skills Training Grant Program. Grants funded under ACWIA 1998 had the long-term goal of raising the technical skill levels of American workers in order to fill specialty occupations presently being filled by temporary workers admitted to the United States under the provisions of the H-1B visa. Eligible grant applicants were local Private Industry Councils (PICs) and Workforce Investment Boards (local boards) established under Section 117 of the Workforce Investment Act (WIA) or a consortium of local boards.

ACWIA 1998 was amended by the American Competitiveness in the Twenty-first Century Act of 2000 (ACWIA 2000) Public Law 106-313, enacted on October 17, 2000. This law increased the temporary cap of H-1B visas to 195,000 annually until the end of fiscal year 2003. Separate legislation raised the employer H-1B application fee from $500 to $1,000. ACWIA 2000 authorized the use of 55% of the funds generated by H-1B visa fees to continue the Department of Labor's H-1B Technical Skills Training Grant Program through September 30, 2003. ACWIA 2000 H-1B Technical Skills Training Grant Program statutory provisions are codified at 29 U.S.C. 2916 a.

Nature of Funding: ACWIA 2000 also created a two-part eligibility and funding criteria for the H-1B program. Local boards are eligible to receive 75% of total funds awarded. These grants provide funds to partnerships consisting of one or more local boards, at least one business or business related non-profit (such as a trade association) and one community-based organization (which may be faith-based), higher education institution or labor union. The remaining 25% of funds, the subject of this solicitation, are made available through grants to eligible partnerships that consist of at least two businesses or a business-related nonprofit organization that represents more than one business. Partnerships may include any educational, labor, community and faith-based organization, or local board, but funds may be used only to carry out a strategy that would otherwise not be eligible for funds under the 75% clause due to barriers in meeting partnership eligibility criteria. The scope of the business partnerships, for example, may be national or multi-state, making the partnership ineligible for the 75% funding stream.

Applications submitted by Business-Led partnerships require a 100 percent match in cash or in kind. Partners cooperating in the proposed project may divide the responsibility for the match among themselves in any way they choose to do so, provided that at least 50 percent of the match comes from the business partners (see Part II, section E, Matching Funds). ACWIA 2000 also specified that consideration be given to applicants that provide a specific commitment from other public or private sources, or both, to demonstrate the long-term sustainability of the training program or project after the grant expires.

Targeted Occupations: At least eighty percent of the grants are to be awarded to projects that train workers in high technology, information technology, and biotechnology skills. For example, this includes skills needed for software and communications services, telecommunications, systems installation and integration, computers and communications hardware, advanced manufacturing, health care technology, biotechnology and biomedical research and manufacturing, and innovation services. No more than 20 percent may be awarded to projects that train for skills related to any single specialty occupation. Specialty occupations require a theoretical and practical application of a body of highly specialized knowledge and sometimes may even require full state licensure to practice in the occupation. These occupations require at least a bachelor's degree or higher and/or experience in the specific specialty. They also may require recognition of expertise in the specialty through progressively responsible positions relative to the specialty occupation.

The technical skills training portion of ACWIA 2000 (Section 111) is designed to help both employed and unemployed American workers acquire the requisite technical capabilities in high skill occupations that have shortages. Training generally is aimed at occupations at the H-1B skill levels, which are defined as a bachelor's degree or comparable experience. Under ACWIA 2000, training is not limited to skill levels commensurate with 4-year undergraduate degrees, but can include the preparation of workers for a broad range of positions along a career ladder leading to an H-1B skill level job.

Occupational Skill Levels: To meet the legislative intent of training American workers to replace foreign workers under the H-1B visa program, technical skills training grants under this SGA must focus on a high level of training and on selected occupations. As shown on Table 1, foreign workers coming to the United States under the H-1B visa program are exceptionally well-educated; 50 percent possess a Bachelor's degree, 30 percent have a Master's degree, and 17 percent have a Doctorate or Professional degree. Fewer than 2 percent of H-1B visas go to foreign workers with less than a Bachelor's degree. With respect to occupations in 2002, 38 percent are computer/information technology related occupations, such as programmers, database administrators and systems analysts. The second largest occupational area is architecture, engineering and surveying related occupations. It should be noted that of the medicine and health related occupations, the largest grouping is physicians and surgeons rather than nurses or other healthcare workers.

Outcomes Expected from H-1B Grantees: ACWIA 2000 specified that the Secretary of Labor is to give consideration to applicants who commit to achieving certain outcome goals for individuals who complete training. These outcome goals are: (1) Hiring or causing the hiring of unemployed trainees; (2) increasing the wages or salary of incumbent workers, or (3) providing skill certifications to trainees or linking the training to industry accepted occupational skill standards, certificates, or licensing requirements. Applicants may propose additional goals or combine goals.

ACWIA 2000 also specified that consideration in awarding H-1B grants be given to the use of grant funds to demonstrate a significant ability to expand a training program or project through such means as training more workers or offering more courses or projects resulting from collaborations, especially with more than one small business or with a labor management training program or project, or for a partnership that involves and directly benefits more than one small business.

Table 1. Key Facts About H-1B Visa Approved Petitions, Fiscal Year 2002
| Percent of total
Country of Birth
India | 33.0
China | 9.6
Canada | 6.0
Philippines | 4.7
United Kingdom | 3.6
Korea | 3.0
Other | 40.1
Level of Education
Less than Bachelor's degree | 1.9
Bachelor's degree | 50.4
Master's degree | 30.4
Professional degree | 5.3
Doctorate degree | 11.8
Occupational Area
Computer/information technology | 38.3
Architecture, engineering and surveying | 12.8
Administrative specialties | 10.8
Education | 10.5
Medicine and health | 6.6
Managers and officials | 5.4
Life sciences | 3.5
Social sciences | 2.8
Mathematics/physical sciences | 2.8
Other | 6.5
Source: Yearbook of Immigration Statistics, Fiscal Year 2002, U.S. Bureau of Citizenship and Immigration Services, June 2003.

Status of the H-1B Program: Forty-three H-1B Technical Skills Training Grants totaling $95.6 million were awarded under the provisions of ACWIA 1998. Under ACWIA 2000, the Department of Labor has awarded 56 grants totaling $148 million; of these, 42 grants totaling $113.3 million were under the 75 percent funding stream and 14 grants totaling $34.5 million were under the 25 percent funding stream. Combining all awards made under ACWIA 1998 and ACWIA 2000, the Department of Labor has awarded a total of 99 H-1B Technical Skills Training Grants totaling $243.3 million.

H-1B grants under earlier SGAs were funded for up to a 24-month period, with the possibility of a no-cost extension for one additional year. Grants awarded under this solicitation will have a 36-month performance period, with the possibility of a no-cost extension for one additional year.

Additional details on the background of the H-1B Technical Skills Training Grants program can be found at the H-1B Web site http://www.doleta.gov/h-1b. This Web site contains descriptions of current projects, legislative documents and research papers.

B. Principles of Business-Led H-1B Technical Skills Training Grants

Development, implementation and operation of H-1B Technical Skills Training Grants as envisioned under the authorizing legislation (see Background above) are based on the following principles:

Business Leadership: Businesses generate the demand for jobs, in particular those high skill occupations currently being filled by temporary H-1B workers. Businesses know, as only a consumer can, the exact skill needs of their workforce. To ensure these needs are met, business plays the critical leadership role in formulating, developing, and operating Business-Led Technical Skills Training Grants programs.

Successful H-1B training programs are those in which business is seriously invested in the program and has translated this investment into material support at all levels, including: defining program strategy and goals; designing the training program and curricula; implementing the program, and contributing financial support to the program.

For the purpose of these grants, it is desirable that businesses represented in the group applying for this grant include those with current high technology skills shortages. Some of these businesses may have in the past utilized foreign workers under the H-1B visa program. Now, they intend to hire, retain, or promote graduates of the H-1B Technical Skills Training Program.

Partnership Sustainability: ETA intends that local and regional partnerships and training activities sustain themselves over the long term, well after the Federal resources from this initiative have been exhausted. For this to happen, applicants are encouraged to develop and nurture partnerships that reflect commitments, both financial and non-financial, to the proposed training program as well as to the future success of the program. These partners may include businesses, non-profit industry associations, local workforce investment boards, training providers, community and faith-based organizations, state and local government agencies and should provide the foundation for developing long-term systematic solutions to the high technology skills shortage challenge for employers and workers in a regional or local area.

The matching requirement is an important, but not the only, indicator of the strength of the applicant's partnerships. The requirement that at least one-half of the matching funds must come from the business sector partners is designed to encourage the direct and active participation of employers whose high technology skills needs can be filled by this program. It may also demonstrate that business contributions could be made available in the future to operate technical skills training programs after Federal funds are exhausted.

High Skill Level Focus and Innovative Service Delivery: Training selected employed and unemployed workers to fill current high skill level shortages is the immediate focus of this initiative. Training investments should be targeted in occupational areas that have been identified on the basis of H-1B occupations as high technology skills shortage areas. H-1B Technical Skills Training Grants are not intended to address lower level skill labor shortages nor are they intended to fund training programs aimed at imparting basic educational skills. In addition, H-1B grants are not intended to address occupational shortages due to reasons other than high technology skills shortages.

H-1B training projects may consider utilizing either innovative or proven tools or approaches to close particular skill gaps and provide strategies for training that promote regional development. These may include, but are not limited to, on-the-job training, distance learning, or combinations of training and educational techniques. H-1B grantees should tailor training to the specific needs of the selected incumbent and unemployed workers, both in content and delivery.

Qualified Target Population: Technical skills training should be geared towards employed and unemployed workers who can be trained and placed directly in high skill H-1B occupations, or in the highest echelons of an H-1B career ladder. Candidates for training funded by H-1B Technical Skills Training Grants should possess (and be identified through appropriate assessment tools) a high level of general educational background, the prerequisites for the occupational training being proposed, and certain characteristics such as drive and initiative that will help guarantee successful completion of the high skill level training.

Employees at the H-1B skill level are generally characterized as having a Bachelor's degree or comparable work experience. H-1B technical skills training is not limited to skill levels commensurate with a four-year degree and may be used to prepare workers for a broad range of positions along a specified career ladder. “Career ladder” may generally be defined as a system of career and skill level “steps” directly leading to a high skill level job within a reasonable period of time. Thus, potential trainees are not required to enter training with a four-year degree and trainees do not necessarily have to acquire a four-year degree to be successful. Many will have a four-year degree and others will possess two-year degrees. Career ladders create opportunities for individuals who may vary in experience and education levels (such as specialty training and Associate's degrees) to advance along a defined career ladder and qualify through additional training and education for H-1B level related occupations.

Use of Skill Standards: Skill standards represent a benchmark by which an individual's achieved competence can be measured. Training programs that provide individuals with professionally recognized, portable skills certifications help ensure that these individuals have received useful knowledge and skills relevant to their employers needs and to their own careers. The documentation of skills standards and skills attainment is also indicative of the program's ability to meet industry needs and to reduce the dependence of American businesses on skilled foreign workers.

Well-defined skills standards can be useful tools in matching training goals to targeted occupational areas. Work in the area of skills standards has been performed by private industry and trade associations, registered apprenticeship training systems, and public and private partnerships. Applicants are encouraged to survey the progress to date in developing occupational skills standards and incorporate appropriate ones into their H-1B Technical Skills Training Project.

As alluded to earlier (In Part IA—Background), the definition of the minimum proficiency level required to be considered an H-1B occupation, contained in section 214(i), 8 U.S.C. 1184(i) of the Immigration and Nationality Act (INA), speaks to a very high skill level for these “specialty occupations.” These are occupations that require “theoretical and practical application of a body of highly specialized knowledge,” and full state licensure, if required for the occupation, to practice in the occupation. The standard for these occupations is either completion of at least a Bachelor's degree or experience in the specialty equivalent to the completion of such a degree and recognition of expertise in the specialty through progressively responsible positions relating to the specialty. In addition to academic degrees, specialized and professionally recognized certificates may also be characteristic of a high level of technical skill.

Comprehensive Local and Regional Planning: Developing and implementing a training strategy that addresses businesses' high technology skill needs requires applicants seeking H-1B grants to engage in a process of comprehensive local and regional planning with their partners. This planning effort entails a thorough analysis and understanding of applicable local and regional labor markets, identification of high technology skills shortages in the areas, information on the employment opportunities, trends and training needs within the targeted occupations and industries, as well as knowledge of the impact of skills training in response to the identified skill shortages in the targeted regions.

Applicants are strongly encouraged to utilize all available data sources to demonstrate the high technology skills shortages and training needs in their local or regional areas. Sources of data may include: area businesses and business associations, state labor and local market information systems, the Bureau of Labor Statistics (BLS), local employer surveys, academic sources, and the U.S. Census Bureau.

In addition, current data on approved H-1B visa petitions should be utilized to the extent feasible to describe skill shortages in specific occupations. Appendix B to this solicitation is a listing of occupations for which H-1B visa petitions have been recently approved. Requests for H-1B visas for the applicant's region may reflect a skills shortage for those occupations. Applicants should use data from the business partners involved in submitting the H-1B grant proposal, and may consider surveying other local and regional employers to ascertain the extent of employer use of H-1B visas to obtain foreign workers and to obtain information on the specific occupations and skills imported in the regions.

C. DOL Policies and Emphases

To implement the preceding principles and to meet the legislative intent of ACWIA 2000, DOL has established certain policies and emphases for awarding H-1B Technical Skills Training Grants under this solicitation. Applicants are encouraged to develop proposals based on the principles described above and the policies and emphases identified below.

Connection to the Workforce Investment System: Utilizing Federal resources along with H-1B grant funds to strengthen the overall program is a strongly recommended course of action. In order to obtain these resources, applicants are encouraged to form partnerships with local workforce investment boards. Each local workforce investment board prepares a strategic workforce investment plan for its local area and also designates One-Stop center operators and certifies or approves eligible training providers. Local boards thus have a good base of knowledge about the local area, WIA, regional training efforts, ETA grant administration, One-Stop capabilities and training providers. This knowledge and experience should materially aid business partnerships in planning, developing and implementing H-1B Technical Skills Training Projects.

By building linkages to the One-Stop Career Center network, applicants can reach out, inform, and recruit individuals to participate in H-1B technical skills training and access a range of services for H-1B participants. ETA believes that co-enrollment in WIA and H-1B technical skills training allows for a much broader and comprehensive service provision for H-1B Program participants. For example, some H-1B participants may need supportive services, such as childcare and transportation, to enable them to be successful in both the learning environment and labor market. Supportive services are not allowable activities under the H-1B grant and by co-enrolling these H-1B participants in WIA, some H-1B participants may have access to a full range of supportive services available through their local One-Stop Career System, if determined necessary. Applicants may also consider working with community and faith-based organizations to access supportive services for H-1B participants.

Coordination and consultation activities with the applicable state workforce agency and/or Governor's office or State Workforce Investment Board are also highly encouraged in order to connect to other relevant skills shortages projects that may be operating in the state as well as for sustainability purposes. Although Federal resources may not be counted towards the match requirement, leveraging WIA resources will help make the technical skills training more effective.

Higher Level of Training: Under this SGA, DOL's goal is to fund grants that will provide training at the H-1B level, a level that clearly prepares individuals to meet the “specialty occupation” definition of “a theoretical and practical application of a body of specialized knowledge and sometimes may even require full state licensure to practice in the occupation.” These occupations require at least a bachelor's degree or higher and/or experience in the specific specialty. This will require a higher level of training than has occurred to date under some H-1B funded grants.

To train at high levels, applicants should ensure that eligible participants have a fairly advanced education and skill sets and be capable of pursing training at the college level. In addition, the applicant should determine how these individuals will possess the capacity after completion of the training to perform in jobs that were previously filled via the H-1B visa process, or could be filled at the H-1B level.

If career ladder training is proposed, applicants most demonstrate that the majority of participants will complete the highest rungs of the H-1B level training under the grant within a reasonable period of time. Proposals to fund training in non-H-1B level occupations and preparatory or introductory level information technology areas will receive low selection priority under this SGA.

H-1B Occupational Focus: Since a major objective of H-1B Technical Skills Training Grants is to reduce dependency upon foreign workers in specialty occupations, DOL believes that increased priority is needed in occupations that are largely reflected in approved H-1B visa petitions and that are part of ACWIA legislation. These priority occupations include higher levels of computer science and information technology and architecture, engineering and surveying occupations. In accordance with ACWIA 2000, priority will also be given to proposals related to occupations in biotechnology, biomedical research and manufacturing, and advanced manufacturing technology. Proposals to provide training in other occupational areas such as nursing will receive low selection priority.

Demonstrable Results: DOL will give consideration to applicants that commit to achieving the following outcome goals upon successful completion of training: (1) Hiring or causing the hiring of unemployed trainees; (2) increasing the wages or salary of incumbent workers; or (3) providing skill certifications to trainees or linking the training to industry accepted occupational skill standards, certificates, or licensing requirements. Applicants should provide a description of what demonstrable results are expected and how these results will be achieved and measured.

Small Businesses: As required by ACWIA 2000, DOL will give consideration in awarding grants to any proposal which includes and directly benefits two or more small businesses (100 employees or less).

Part II—Requirements

A. Participants Eligible to Receive H-1B Training

Employed and Unemployed Individuals: Training funded by a grantee may be for both individuals who are currently employed and who wish to obtain and upgrade skills and individuals who are unemployed. The aim of the skills training is to place employed and unemployed workers in highly skilled H-1B related occupations. Applicants are encouraged to consider using community and faith-based organizations in the recruitment of qualified unemployed workers into H-1B programs. As noted above, eligible participants for the H-1B Technical Skills Training Grant Program, prior to the beginning of H-1B training, should possess (and be identified as having through appropriate assessment tools) a fairly advanced educational background and skills set. In addition, eligible participants should have the prerequisites for the occupational training being proposed.

Citizenship Status: Training may be provided to American citizens and nationals and immigrants authorized by the Attorney General to work in the United States, which includes lawfully admitted permanent resident aliens, refugees, asylees, and parolees, and other immigrants authorized by the Attorney General. Note that workers admitted under non-immigrant visas, such as the H-1B program and related programs, are not eligible for training with grant funds.

Veterans Priority: In addition, this program is subject to the provisions of the “Jobs for Veterans Act,” Pub. L. 107-288, which provides priority of service to veterans and certain of their spouses in all Department of Labor-funded job training programs. Please note that, to obtain priority of service, a veteran must meet the program's eligibility requirements. Comprehensive policy guidance is being developed and will be issued in the near future.

B. Administrative Requirements

1. General

Grantee organizations will be subject to: ACWIA 2000; these guidelines; the terms and conditions of the grant and any subsequent modifications; applicable Federal laws (including provisions in appropriations law), and any applicable requirements listed below:

a. Workforce Investment Boards—20 Code of Federal Regulations (CFR) Part 667.220, published in the Federal Register on Friday, August 11, 2000 (Administrative Costs).

b. Non-Profit Organizations—Office of Management and Budget (OMB) Circulars A-122 (Cost Principles) and 29 CFR Part 95 (Administrative Requirements).

c. Educational Institutions—OMB Circulars A-21 (Cost Principles) and 29 CFR Part 95 (Administrative Requirements).

d. State and Local Governments—OMB Circulars A-87 (Cost Principles) and 29 CFR Part 97 (Administrative Requirements).

e. Profit Making Commercial Firms—Federal Acquisition Regulation (FAR)—48 CFR Part 31 (Cost Principles), and 29 CFR Part 95 (Administrative Requirements). In addition, the audit requirements at 20 CFR 627.480 applies to commercial recipients.

f. All entities must comply with 29 CFR Parts 93 and 98, and, where applicable, 29 CFR Parts 96 and 99.

2. Administrative Costs

ACWIA 2000 Section 111(c)(6) provides that an entity that receives a grant to carry out a program or project under section 414(c)(1)(A) of ACWIA may not use more than 10 percent of the amount of the grant to pay administrative costs associated with the program or project. Administrative costs are defined at 20 CFR 667.220. In general, however, this grant does not contemplate or permit the purchase of capital equipment.

3. Start-Up Costs

ACWIA 2000 Section 111(c)(3) limits the amount of start-up costs of partnerships or new training projects, which may be charged to these grants. Except for partnerships of small businesses, the limit is the lesser of five (5) percent of any single grant or costs not to exceed $75,000. For partnerships consisting primarily of small businesses, the limit is the lesser of ten (10) percent of the cost allocable for a single grant or a maximum of $150,000.

C. Reporting Requirements

The grantee is required to provide the reports and documents listed below:

Quarterly Financial Reports. A Quarterly Financial Status Report (SF269) is required until such time as all funds have been expended or the period of availability has expired. Quarterly reports are due 30 days after the end of each calendar year quarter. Grantees must use ETA's On-Line Electronic Reporting System.

Progress Reports. The grantee must submit a quarterly progress report to the designated Federal Project Officer within 30 days following each quarter. Two copies are to be submitted providing a detailed account of activities undertaken during that quarter including:

1. # Completing training this quarter

2. # Completing training overall

3. # Enrolled in training

4. # Expected to complete training by end of project

5. # New job placements as a result of training

6. # Promotions resulting from the training

7. # Wage increases resulting from training and amount of wage increases resulting from training

8. # Certifications and/or /degrees, by type, awarded as result of training

Note: DOL may require additional data elements, e.g., veteran status, to be collected and reported on either a regular basis or special request basis. Grantees must agree to meet DOL reporting requirements.

A narrative section is also required for each quarterly report, including:

1. General overview of project progress, new developments and resolution of previous issues and problems.

2. Explanation of any problems and issues encountered and planned response.

3. Lessons learned in the areas of project administration and management, training delivery, partnership relationships and other related areas.

4. Discussion of the occupational areas for which skills training is being provided, including a listing of the occupations being trained, training delivery, number of students per occupation and other relevant information that provides a reasonable picture of the occupational training being conducted.

Final Report. A draft final report which summarizes project activities and employment outcomes and related results of the training project must be submitted no later than 60 days prior to the expiration date of the grant. After responding to DOL questions and comments on the draft report, three copies of the final report must be submitted no later than the grant expiration date. Grantees must agree to use a designated format specified by DOL for preparing the final report.

D. Evaluation

As required by ACWIA 2000, applications must include an agreement that the program or project shall be subject to evaluation by the Secretary of Labor to measure its effectiveness. To measure the impact of these skill training grants, ETA will arrange for or conduct an independent evaluation of the outcomes and benefits of the projects. Grantees must agree to make records on participants, employers and funding available and to provide access to program operating personnel and to participants, as specified by the evaluator(s) under the direction of ETA, including after the expiration date of the grant.

E. Matching Funds

Applicants must demonstrate the ability to provide resources equivalent to at least 100 percent of the grant award amount as a match. This statutory match may be provided in cash or in-kind, and Federal resources may not be counted against the matching requirement. At least one-half of the non-Federal matching funds must be from the business or businesses or business-related nonprofit organizations involved. The match requirement applies to the entire Federal grant funding level. The application must clearly describe the size, nature, and quality of the non-Federal match and how the match will be used to further the goals of the project.

Applicants should describe the nature of the match to ensure that activities counted as match are permitted under the H-1B program. To be allowable as part of the match, a cost must be an allowable training cost that could conceivably be charged to Federal grant funds. If the cost cannot be charged to the grant funds, then it cannot be charged to match either.

For the purposes of the H-1B Grant Program, there is one exception to the allowable cost rule for matching funds. Grantees may include as training costs the salaries and wages employers pay for their employees while the employees are participating in skills training. These costs are allowable as match provided that: (a) The trainees are bona-fide employees; (b) the employer pays only regular salary and wages, but not overtime, benefits, or other costs, for each trainee for time spent attending classes during working hours; and (c) the trainee remains employed with the employer for sixty days after the completion of training.

Part III—Application Process

A. Eligible Applicants

ACWIA 2000, Section 111(c)(2)(A)(ii) [29 U.S.C. 2916 a (c)(2)(A)(ii)] specifies that the Secretary shall, in consultation with the Secretary of Commerce, subject to the availability of funds in the H-1B Nonimmigrant Petitioner Account, award 25 percent of the grants to partnerships that consist of at least two businesses or a business-related nonprofit organization that represents more than one business, and that may include any educational, labor, community and faith-based organization, or workforce investment board.

Grant funds awarded under the 25 percent provision may be used only to carry out a strategy that would otherwise not be eligible for funds provided through the workforce investment boards under the 75 percent provision due to barriers in meeting those partnership eligibility criteria. For example, if the scope of the business partnerships is national or multi-state, this may make the partnership ineligible for the 75% funding stream. Applicants must explain the barriers that prevent them from working through their local workforce investment board and letting the workforce investment board be the applicant.

The application must clearly identify the applicant as well as the fiscal agent, the grant recipient (and/or fiscal agent), and describe its capacity to administer this project. Applicants are encouraged to collaborate with entities that possess a sound grasp of the job market in the region and are in a position to address the issue of skill shortage occupations. These entities include organizations such as private, for-profit businesses—including small and medium-size businesses; business, trade, or industry associations such as local Chambers of Commerce and small business federations; and labor unions.

According to Section 18 of the Lobbying Disclosure Act of 1995, an organization described in Section 501(c)(4) of the Internal Revenue Code of 1986 that engages in lobbying activities will not be eligible for the receipt of Federal funds constituting an award, grant, or loan.

Note: Except as specifically provided in this Notice, DOL/ETA's acceptance of a proposal and an award of Federal funds to sponsor any program(s) does not provide a waiver of any grant requirements and/or procedures. For example, the OMB Circulars require and an entity's procurement procedures must require that all procurement transactions are conducted, as much as practical, to provide open and free competition. If a proposal identifies a specific entity to provide services, the DOL/ETA's award does not provide the justification or basis to sole-source the procurement, i.e., it does not authorize the applicant to avoid competition when procuring these services.

B. Submission of Proposals

Applicants must submit an original signed application and two copies. The proposal must consist of two (2) separate and distinct parts, Parts I and II. Failure to adhere to the instructions in this section will be considered as non-responsive.

Part I of the proposal must contain the Standard Form (SF) 424, “Application for Federal Assistance” (Appendix C), the Budget Information Form (Appendix D) and the Project Profile Information form (Appendix E). Upon confirmation of an award, the individual signing the SF 424 on behalf of the applicant shall represent the responsible financial and administrative entity.

In preparing the Budget Information form, the applicant must provide a concise narrative explanation to support the request. The statutory language of ACWIA 2000 is specific in stating that grant resources are to be expended for programs or projects to provide technical skills training. An illustrative, but not exclusive, list of allowable and allocable types of administrative costs is provided in the WIA regulations at 20 CFR 667.220. The budget narrative should discuss precisely how the administrative costs support the project goals.

Part II of the application must contain a technical proposal that demonstrates the applicant's capabilities to plan and implement an H-1B Technical Skills Training Grant Program in accordance with the provisions of this solicitation. Part II of the grant application is limited to twenty-five (25) double-spaced, single-sided, 8.5 inch x 11 inch pages with one-inch margins. In addition, the applicant may provide resumes, a staffing pattern, statistical information and related material in attachments, which may not exceed fifteen (15) pages. Although not required, letters of commitment from partners or from those providing matching resources may be submitted as attachments. Such letters will not count against the allowable maximum page total. The applicant must briefly itemize those participating entities in the text of the proposal. Text type shall be 12 point or larger. Applications that do not meet these requirements will not be considered. Each application must include a Time Line outlining project activities and an Executive Summary that is not to exceed two pages. The Time Line and the Executive Summary do not count against the 25-page limit. No cost data or reference to prices should be included in the technical proposal.

C. Award Amount and Period of Performance

It is anticipated that individual awards will not exceed $3 million. The initial period of performance will be up to 36 months from the date of execution of the grant documents. ETA may elect to exercise its option to award no-cost extensions to these grants for an additional period not to exceed 12 months, based on the success of the program and other relevant factors.

Part IV—Review Process and Rating Criteria

A. The Review Process

Applications for the H-1B Technical Skills Training Grants will be accepted after the publication of this announcement until the closing date. A technical review panel will make careful evaluation of applications against the criteria below which include the policy goals, principles, priorities and emphases set forth in this SGA. Final funding decisions will be based on the rating of applications as a result of the review process, and other factors such as regulatory and statutory requirements and considerations. These factors may include urban/rural and geographic balance, the requirement that at least 80 percent of funds be awarded for high technology, information technology, and biotechnology occupational training, the availability of funds, and what is most advantageous to the Government. The panel results are advisory in nature and not binding on the Grant Officer. The Government may elect to award the grant(s) with or without discussions with the applicants. In situations without discussions, an award will be based on the applicant's signature on the SF 424, which constitutes a binding offer.

B. Rating Criteria

This section identifies and describes the criteria that will be used to evaluate H-1B Technical Skills Grant proposals. These criteria and point values are:

Criterion | Points
A. Statement of Need | 10
B. Level of Training and Service Delivery Strategy | 25
C. Target Population | 10
D. Sustainability | 15
E. Linkages with Key Partners | 15
F. Outcomes, Management and Cost Effectiveness | 25
Total Possible Points | 100

1. Statement of Need (10 points)

Analysis of Labor Market: ACWIA 2000 is a response to high technology skill shortages around the country in specific occupations. Applicants must describe the local area or region for which training services are to be provided and the high technology skill shortages prevalent in the geographic area or region. The process through which training needs were identified to ensure that the proposed training is relevant to local and regional labor market shortages should be clearly explained. Evidence of a comprehensive analysis of the region's labor market and skills shortages and identity of the source of the data used in the analysis should be provided. Include an explanation of how the skills training will impact the identified skills shortages of the region.

A general description of the local area or region should provide information such as urban or rural and socioeconomic data, with a particular focus on general education and skills levels prevalent in the area. In addition, a description of the characteristics of the political, economic and administrative jurisdictions (local workforce boards, labor market areas, special district authorities) that led them to partner for the purpose of this application should be incorporated. Information on transportation patterns, demographics and other factors, as they affect the high skill shortage situation, may be useful in explaining the training needs.

Business Environment: Answers should be provided to questions germane to the business environment such as:

• What is the general business environment?

• What industries and occupations are growing and declining?

• What types of skills are being sought in the geographic area or region by the major employers in general, and this grant application's member companies, in particular?

• How many H-1B visa petitions were filed by area employers and in this grant application's member companies, in particular? For which occupations? Which specific skills did H-1B visa workers have that were not available in the area?

• What high skills needs are expected to be met through the H-1B grant project?

2. Level of Training and Service Delivery Strategy (25 points)

Comprehensive Strategy: Applicants must lay out the comprehensive strategy proposed for providing the technical skills training that is mandated as the core activity of these grant awards. Applicants shall describe a service delivery strategy that provides training at or directly leading to an H-1B level skill. Part 1C of this SGA spells out very clearly DOL's strong interest in achieving a higher level of training than has occurred in some H-1B grants in the past and thus, training at a sufficiently high skill level will be an important factor in this criterion. Specific issues that must be addressed as part of this section include:

• The range and identity of potential training providers, including identifying whether they are on the eligible training provider list as described in WIA, section 122, the types of skills training that will be offered, how the training will meet the local area or regional skills needs, and how the training will be provided.

• The targeted occupations and skill level and how the skill upgrading will be measured. If degrees and/or certificates are contemplated, the type and recognition authority should be described as well as an estimate of the number and type to be attained.

• What steps will be taken to reach out to the community(ies) to provide information about the project and planned training activities.

• How will the types of training planned for project participants be determined.

Career Ladders: If career ladder training is proposed, the applicant must provide adequate detail demonstrating that all rungs of the ladder lead to H-1B training at the top rung and that it is reasonably likely that the majority of individuals on the ladder will complete the highest rungs of H-1B level training under the H-1B Technical Skills Training Grant.

Innovation: Applicants should fully describe any innovative and creative approaches to be undertaken in the context of service delivery. Innovation can be represented by a wide variety of creative approaches and techniques in which training services are provided, e.g., distance learning to provide instruction, interactive video self-instructional materials, and flexible class scheduling (sections of the same class scheduled at different times of the day to accommodate workers whose schedules fluctuate).

Business Involvement and Trainee Needs: The service delivery strategy must meet the needs of business partners, providing the skills identified in the statement of need. Evidence should be provided that business partners have been involved in developing the training service delivery plan, which may include designing the training program and curricula as well as operating the program. The service delivery strategy should also effectively reach out to and meet the needs of the target population, i.e., desired candidates are recruited and training conducted in such a manner that participants can attend without undue hardship (training during the workday, on weekends and/or through distance learning methods).

Timing: DOL anticipates that the focus on a higher level of training and on H-1B occupations may necessitate formal education and/or a longer period of training than many other employment and training programs. As a result, applicants should carefully plan and coordinate preparatory activities, such as recruitment and assessment, with training providers to ensure that there is sufficient time for participants to complete training during the grant period. Applicants should identify assessment/enrollment and training phase activities in project operation timeline charts.

3. Target Population (10 points)

Employed and/or Unemployed Workers and Why: The eligibility criteria for skills training enumerated in ACWIA 2000 are extremely broad: employed and unemployed workers.

Applicants must clearly describe how and why members of the target population will be selected as well as their technical skills training needs in such a way as to verify that H-1B level training is actually required, especially in the case of incumbent workers. Applicants should also describe the partners' involvement, particularly business, in the selection process as well as that of any involved community and faith-based organizations.

Assessment: Applicants shall describe the assessment tools used to ensure that proposed trainees are qualified for the training and have a high likelihood of successful completion of the H-1B level training, in terms of ability and educational preparation. In addition, the applicant should discuss how those individuals will be determined to possess the capacity after the completion of training to accept jobs that previously were filled via the H-1B visa process, or could be filled at the H-1B level.

Specificity: The applicant should address some specific issues relating to the targeted worker population such as:

• How many employed workers and unemployed workers will be targeted for services and why?

• What are the technical skills training needs of those workers to fulfill skill shortage occupations at the H-1B level? Note that employers' needs should be addressed in the Statement of Need section.

• What criteria will be utilized to select employed and unemployed workers?

• What assessment tools will be used to ensure trainees will be able to complete this high level of training?

• What is the business partners' involvement in the selection of candidates?

• What is the targeted education and skill level of trainees as they enter the program?

• How will individuals eligible for priority of service under the Job for Veterans Act be identified and provided services?

4. Sustainability (15 points)

Outlasting the Federal Investment: Sustainability refers to the continuation of the partnership and/or training activities based on the strength of that partnership and the ability of the training program to deliver value to employers. Applicants may address sustainability by providing concrete evidence that training activities of the partnership and/or the partnerships that were formed to create them will be continued through the use of other public or private resources after the expiration of the grant.

Match: Matching resources and partnerships are considered an integral element of the project, as they support and strengthen the quality of the technical skills training provided and may contribute materially toward sustainability. Applicants must demonstrate that they will meet the statutory requirement to provide a 100 percent match to the resources for proposed projects. Applicants must describe to what extent the partners provide matching funds or services and how this contribution assists in building the foundation for a long-term partnership, i.e., sustainability. This section MUST contain a detailed discussion of the size, nature, and quality of the non-Federal match and how the match will be used to further the goals of the project. Proposals not meeting the statutory 100 percent match requirement will be considered non-responsive and will not be considered.

Other Resources: Since H-1B Technical Skills Training Grant resources are limited to raising the skills levels of individuals to fill high skills H-1B occupations, applicants should identify other resources, both Federal and non-Federal, that can contribute materially toward quality outcomes and sustainability. (Note that although Federal resources may not be counted as match, they may help to demonstrate project sustainability). Applicants should enumerate these resources and describe any specific existing contractual commitments that support their sustainability strategies.

5. Linkages with Key Partners (15 points)

Nature of Partnerships: The application must show the partnership required by Section 111(c)(2)(A)(ii) of ACWIA 2000 (at least 2 businesses or a business-related nonprofit organization that represents more than one business, and that may include any educational, labor, community organization, or workforce investment board). ETA encourages, and will be looking for, applications that go beyond the minimum requirements of the statute and show broader, longer-term partnerships. The applicant should identify the partners and how they will interact together (e.g., what roles each will play and what resources each partner will offer). In particular, this section should identify partnerships with the private and public sectors, including ties with small- and medium-sized businesses and small business federations.

Coordination and Consultation: In addition, the proposal should include a description of any coordination and consultation activities with the applicable local workforce board(s), state workforce agency and/or Governor's office. Evidence of such coordination and/or consultation such as written documentation should be included in the application. The Service Delivery Strategy section describes the role of each of the partners in delivering the proposed training services, while this section is intended to look at the linkages from a more structural perspective with particular emphasis on the employers in the consortium that are experiencing skills shortages and have hiring or upgrading needs.

Small Businesses: As noted previously, ETA also is interested in the extent of the involvement of small businesses in the partnership. Consideration will be given to any partnership that involves and directly benefits more than one small business (each consisting of 100 employees or less).

6. Outcomes, Management and Cost Effectiveness (25 points)

This criterion includes three areas: (a) Program and training outcomes, (b) project and grant management, and (c) cost effectiveness. Applicants must describe fully the predicted outcomes resulting from the technical skills training. As stated previously, applicants should indicate how they plan to achieve the following outcome goals, if appropriate, upon successful completion of a training program:

(1) The hiring of unemployed trainees (if applicable);

(2) Increases in the wages or salaries of already employed trainees (if applicable); and

(3) Awards of educational degrees, credit toward degrees, skill certifications to trainees or links the trainees to industry-accepted occupational skill standards, certificates or licensing requirements.

In addition, applicants should indicate if any additional goals or outcomes are anticipated and how these are expected to be achieved.

Benefits as a Result of Training: Participants in the H-1B Training Program may be of differing skill levels and backgrounds and therefore, the outcomes section should discuss gains attained for individual participants in the context of their backgrounds and skills levels when they entered the program. Outcomes for employed workers may be at a somewhat higher level than for those unemployed workers who do not possess similar skills at the outset. The focus of the discussion in this section should emphasize very specifically the benefits that occurred because of the training. For example, an applicant might state that a certain skill level is projected for a given group and indicate what change in skills that represents and how that might translate into an increase in earnings.

Qualifications for and Nature of Program Management: Project and Grant Management includes the organizational structure and capacity of the applicant and its partners and the utilization of automated data systems. In the management area, identification of a management entity, the proposed staffing pattern, the qualifications and experience of key staff members and detailed descriptions of the roles of the participating partners should be discussed. Each application MUST designate an individual who will serve as project director and who will devote a substantial portion of his/her time to the project, which may be defined as at least 60 percent. The applicant should also include a description of the organizational capacity and track record in high skills training and related activities of the primary actors in the partnership.

Automated Tracking and Reporting: Applicants should include a description of the automated data system to be used for managing the project, collecting project data, monitoring and tracking progress, responding to issues and problems, and producing relevant reports for both the grantee and DOL. The grantee's automated system must be capable of collecting, storing and retrieving participant and training results information and producing reports needed for administrative, management, and analytical purposes. The grantee must identify the data elements to be routinely collected and measures to ensure the accuracy and validity of information reported.

Cost Benefit: Applicants should provide a detailed discussion of the expected cost effectiveness of their proposal in terms of the expected cost per participant compared to the expected benefits for these participants. Applicants should address the employment outcomes, such as placement, increased salary, promotion or retention and the level of skill to be achieved (such as attaining state licensing in an occupation), relative to the level and duration of training that the individual needed to receive to achieve those outcomes. Benefits can be described both qualitatively in terms of skills attained, including degrees and certificates attained, and quantitatively in terms of wage gains. Costs must be justified in relation to cost per participant and, when possible, contrasted with similar costs for training conducted elsewhere. The applicant's expectations regarding these measures should also be included.

Signed in Washington, DC, this 19th day of June 2003.
James W. Stockton,
Grant Officer.

Appendix A: Legislative Mandate

Appendix B:—H-1B Petitions Approved in Fiscal Years 2001 and 2002 for Top 10 Major

Occupational Groups: U.S. Bureau of Citizenship and Immigration Services, May 2003

Appendix C: (SF) 424—Application Form

Appenidx D: Budget Information Form

Appendix E: Project Profile Information (complete by applicant)

Appendix A

Legislation

Applicable Sections of ACWIA 1988 and ACWIA 2000

29 U.S.C. 2916a.

Section II 2916a. Demonstration programs and projects to provide technical skills training for workers

(1) In general—

(A) Funding.

The Secretary of Labor shall use funds available under section 1356(s)(2) of Title 8 to establish demonstration programs or projects to provide technical skills training for workers, including both employed and unemployed workers.

(B) Training provided.

Training funded by a program or project described in subparagraph (A) shall be for persons who are currently employed and who wish to obtain and upgrade skills as well as for persons who are unemployed. Such training is not limited to skill levels commensurate with a four-year undergraduate degree, but should include the preparation of workers for a broad range of positions along a career ladder. Consideration shall be given to the use of grant funds to demonstrate a significant ability to expand a training program or project through such means as training more workers or offering more courses, and training programs or projects resulting from collaborations, especially with more than one small business or with a labor-management training program or project. The need for the training shall be justified through reliable regional, State, or local data.

(2) Grants.

(A) Eligibility.

To carry out the programs and projects described in paragraph (1)(A), the Secretary of Labor shall, in consultation with the Secretary of Commerce, subject to the availability of funds in the H-1B Nonimmigrant Petitioner Account, award—

(i) 75 percent of the grants to a local workforce investment board established under section 2831(b) or section 2832 of this title or consortia of such boards in a region. Each workforce investment board or consortia of boards receiving grant funds shall represent a local or regional public-private partnership consisting of at least—

(I) one workforce investment board;

(II) one community-based organization or higher education institution or labor union; and

(III) one business or business-related nonprofit organization such as a trade associated: Provided, That the activities of such local or regional public-private partnership described in this subsection shall be conducted in coordination with the activities of the relevant local workforce investment board or boards established under the Workforce Investment Act of 1998 (29 U.S.C. 2832); and

(ii) 25 percent of the grants under the Secretary of Labor's authority to award grants for demonstration projects or program sunder section 171 of the Workforce Investment Act [FN1] [29 U.S.C.A. § 2916] to partnership that shall consist of at least 2 businesses or a business-related nonprofit organization that represents more than one business, and that may include any educational, labor, community organization, or workforce investment board, except that such grant funds may be used only to carry out a strategy that would otherwise not be eligible for funds provided under clause (i), due to barriers in meeting those partnership eligibility criteria, on a national, multistate, regional, or rural area (such as rural telework programs) basis.

(B) Designation of responsible fiscal grants.

Each partnership formed under subparagraph (A) shall designate a responsible fiscal agent to receive and disburse grant funds under this subsection.

(C) Partnership considerations.

Consideration in the awarding of grants shall be given to any partnership that involves and directly benefits more than one small business (each consisting of 100 employees or less).

(D) Allocation of grants.

In making grants under this paragraph, the Secretary shall make every effort to fairly distribute grants across rural and urban areas, and across the different geographic regions of the United States. The total amount of grants awarded to carry out program and projects described in paragraph (1)(A) shall be allocated as follows:

(i) At least 80 percent of the grants shall be awarded to programs and projects that train employed and unemployed workers in skills in high technology, information technology, and biotechnology, including skills needed for software and communications services, telecommunications, systems installation and integration, computers and communications hardware, advanced manufacturing, health care technology, biotechnology and biomedical research and manufacturing, and innovation services.

(ii) No more than 20 percent of the grants shall be available to programs and projects that train employed and unemployed workers for skills related to any single specialty occupation, as define din section 1184(i) of Title 8.

(3) Start-up funds.

(A) In general.

Except as provided in subparagraph (B), not more than 5 percent of any single grant, or not to exceed $75,000, whichever is less, may be used toward the start-up costs of partnerships or new training programs and projects.

(B) Exception.

In the case of partnerships consisting primarily of small businesses, not more than 10 percent of any single grant, or $150,000, whichever is less, may be used toward the start-up costs of partnerships or new training programs and projects.

(C) Duration of start-up period.

For purposes of this subsection, a start-up period consists of a period of not more than 2 months after the grant period begins, at which time training shall immediately begin and no further Federal funds maybe used for start-up purposes.

(4) Training outcomes.

(A) Consideration for certain programs and projects.

Consideration in the awarding of grants shall be given to applicants that provide a specific, measurable commitment upon successful completion of a training course, to—

(i) hire or effectuate the hiring of unemployed trainees (where applicable);

(ii) increase the wages or salary of incumbent workers (where applicable); and

(iii) provide skill certifications to trainees or link the training to industry-accepted occupational skill standards, certificates, or licensing requirements.

(B) Requirements for grant applications,

Applications for grants shall—

(i) articulate the level of skills that workers will be trained for and the manner by which attainment of those skills will be measured;

(ii) include an agreement that the program or project shall be subject to evaluation by the Secretary of Labor to measure its effectiveness; and

(iii) in the case of an application for a grant under paragraph (2)(A)(ii), explain what barriers prevent the strategy from being implemented through a grant made under paragraph (2)(A)(i).

(5) Matching funds.

Each application for a grant to carry out a program or project described in paragraph (1)(1) shall state the manner by which the partnership will provide non-Federal matching resources (cash, or in-kind contributions, or both) equal to at least 50 percent of the total grant a mount awarded under paragraph (2)(A)(i), and at least 100 percent of the total grant amount awarded under paragraph (2)(A)(ii). At least one-half of the non-Federal matching funds shall be from the business or businesses or business-related nonprofit organizations involved. Consideration in the award of grants shall be given to applicants that provide a specific commitment or commitments of resources from other public or private source, or both, so as to demonstrate the long-term sustainability of the training program or project after the grant expires.

(6) Administrative costs.

An entity that receives a grant to carry out a program or project described in paragraph (1)(A) may not use more than 10 percent of the amount of the grant to pay for administrative costs associated with the program or project.

Applicable Sections of the Immigration and Nationality Act

The Immigration and Nationality Act (INA) (section 101(a)(15)(h)(i)(b)) (8 U.S.C. 1101(a)(15)(H)(i)(B)) defines the H-1B alien as one who is coming temporarily to the United States to perform services in a specialty occupation * * * or as a fashion model. * * *”

The INA (Section 214(i)) sets criteria to define the term “speciality occupation:”

(1) For purposes of section 1101(a)(15)(H)(i)(b) and paragraph 1, a “specialty occupation” means an occupation that requires—(A) theoretical and practical application of a body of highly specialized knowledge and,

(B) attainment of a bachelor's higher degree in the specific speciality (or its equivalent) as a minimum for entry into the occupation in the United States.

(2) For purposes of section 1101(a)(15)(H)(i)(b)), the requirements of this paragraph with respect to a specialty occupation are—(A) full state licensure to practice in the occupation, if such licensure is required to practice in the occupation.

(B) completion of the degree described in paragraph (1)(B) for the occupation, or (C)(i) experience in the specialty equivalent to the completion of such degree, and (ii) recognition of expertise in the specialty through progressively responsible positions relating to the specialty.

Appendix B—H-1B Petitions Approved in Fiscal Years 2001 and 2002 for Top 10 Major Occupational Groups: U.S. Bureau of Citizenship and Immigration Services, June 2003
Occupations | Group rank | LCA* code | FY 2001 percent | FY 2002 percent
Computer-related | 1 | 03 | 58.0 | 38.3
Systems analysis and programming |  | 030 |  |
Data communications and networks |  | 031 |  |
Computer systems technical support |  | 033 |  |
Architecture, engineering and surveying | 2 | 00/01 | 12.2 | 12.8
Electrical/Electronics engineering |  | 003 |  |
Mechanical engineering |  | 007 |  |
Architectural |  | 001 |  |
Civil engineering |  | 005 |  |
Industrial engineering |  | 012 |  |
Administrative specializations | 3 | 16 | 7.2 | 10.7
Accountants, auditors and related occupations |  | 160 |  |
Budget and management systems |  | 161 |  |
Sales and distribution management |  | 163 |  |
Education | 4 | 09 | 5.3 | 10.5
College and university education |  | 090 |  |
Preschool, primary school and kindergarten education |  | 092 |  |
Medicine and health | ¹ 6 ² 5 | 07 | 3.4 | 6.6
Physicians and surgeons |  | 070 |  |
Managers and officials | ¹ 6 ² 6 | 18 | 3.8 | 5.4
Life Sciences | 7 | 04 | 2.0 | 3.5
Biological Sciences |  | 041 |  |
Social Sciences | 8 | 05 | 1.9 | 2.8
Economics |  | 050 |  |
Mathematics and physical sciences | 9 | 02 | 1.7 | 2.8
Chemistry |  | 022 |  |
Miscellaneous professional, technical and managerial | 10 | 19 | 1.7 | 2.5
¹ FY 2001.
² FY 2002.
* Labor Condition Application code.

BILLING CODE 4510-30-P

Appendix C

Appendix D

Appendix E: Project Profile Information

[FR Doc. 03-15922 Filed 6-23-03; 8:45 am]

BILLING CODE 4510-30-C